Proclamation 7478 of October 3, 2001

National Disability Employment Awareness Month, 2001

By the President of the United States of America

A Proclamation

Our Nation's annual observance of National Disability Employment Awareness Month allows us to reflect upon, and consider the potential possessed by, the millions of Americans with disabilities who currently serve in our workforce, as well as those who are ready and willing to join the workforce. In keeping with this year's theme, “Win with Ability,” we recognize and salute the skills, creativity, and dedication of working people with disabilities and take appreciative note of their commitment to our Nation and its continued prosperity.

When President George H. W. Bush signed the Americans with Disabilities Act (ADA) in 1990, our Nation made a promise to no longer underestimate the abilities of disabled Americans. That Act, and its subsequent implementation, has liberated the energies and talents of millions of Americans with disabilities. We have seen evidence of progress in improved access to employment, public places, commercial facilities, information technology, telecommunication services, housing, schools, and polling places.

Although America has made great progress since the signing of the ADA, many opportunities for further improvement still exist. My Administration is committed to tearing down any barriers that unreasonably prevent the full participation of Americans with disabilities. I proposed my New Freedom Initiative to help disabled Americans realize their dreams through meaningful and successful careers. I also have proposed programs that will give persons with disabilities greater access to technology, which will increase their productive capacity and allow some to work at home. My proposed programs will expand educational opportunities, facilitate the inclusion of people with disabilities into the workforce, and will allow increased participation in community life. I have signed an Executive Order requiring full implementation of the Supreme Court's 1999 Olmstead Decision mandating that individuals with disabilities, who can receive support and treatment in a community setting, should be given a reasonable opportunity to live close to their families and friends, when appropriate.

We can no longer accept the continued existence of barriers, whether physical or social, that unreasonably prevent persons with disabilities from full integration into our society. I ask every citizen to join me in recognizing and valuing the contributions that people with disabilities have made to our society and to commit to a collective effort that creates reasonable access for disabled persons to all that America has to offer.

By joint resolution approved August 11, 1945, as amended (36 U.S.C. 121), the Congress has, each year since 1945, called upon this Nation to recognize the contributions that workers with disabilities have made, and requested the President to issue a proclamation calling for appropriate ceremonies and activities.

NOW, THEREFORE, I, GEORGE W. BUSH, President of the United States of America, by virtue of the authority vested in me by the Constitution and laws of the United States, do hereby proclaim October 2001, as National Disability Employment Awareness Month. I call upon government leaders, labor leaders, and employers to collaborate to ensure the full inclusion of our Nation's persons with disabilities in the 21st Century workforce.

IN WITNESS WHEREOF, I have hereunto set my hand this third day of October, in the year of our Lord two thousand one, and of the Independence of the United States of America the two hundred and twenty-sixth.

B

[FR Doc. 01-25440

Filed 10-5-01; 8:45 am]

Billing code 3195-01-P